DEPARTMENT OF DEFENSE

Office of the Secretary

[Docket ID: DOD-2012-OS-0045]

Privacy Act of 1974; System of Records

AGENCY: Defense Intelligence Agency, DoD.

ACTION: Notice to add a system of records.

SUMMARY: The Defense Intelligence Agency is proposing to add a system to its existing inventory of records systems subject to the Privacy Act of 1974 (5 U.S.C. 552a), as amended.

DATES: This proposed action will be effective on May 14, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address in FOR FURTHER INFORMATION CONTACT.

The proposed system report, as required by 5 U.S.C. 552a(r) of the Privacy Act of 1974, as amended, was submitted on April 6, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 9, 2012.
Aaron Siegel,
Alternate OSD Federal Register Liaison Officer, Department of Defense.

LDIA 12-0001

System Name:

Unique Identifying Number (UIN) Management Records.

System Location:

Defense Intelligence Agency, 200 MacDill Blvd. Washington, DC 20340

Categories of Individuals Covered by the System:

Department of Defense (DoD) current and former civilian, military and affiliate personnel, non DoD and other U.S. Government agency personnel, interagency mobile interrogation teams, foreign government personnel, and DoD and non-DoD law enforcement counterintelligence personnel who conduct or support strategic intelligence interrogations.

Categories of Records in the System:

Unique Indentifying Number (UIN), name, Social Security Number (SSN), status or affiliation, current location and contact information, and information relating to individuals or team functions.

Authority for Maintenance of the System:

Section 1080 of Public Law 111-84, The National Defense Authorization Act; DoD 3115.09, DoD Intelligence Interrogations, Detainee Debriefings and Tactical Questioning; DoD 5240.1-R, Procedures Governing the Activities of DoD Intelligence Components that Affect United States Persons; and E.O. 9397, as amended.

Purpose(s):

Manages the identification of strategic interrogation and support personnel and their employing U.S. Government agency or affiliate through assignment of a Unique Identifying Number (UIN).

Routine uses of records maintained in the system, including categories of users and the purposes of such uses:

In addition to those disclosures generally permitted under 5 U.S.C. 552a(b) of the Privacy Act of 1974, these records contained therein may specifically be disclosed outside of DoD as a routine use pursuant to 5 U.S.C. 552a(b)(3) as follows:

The DoD `Blanket Routine Uses' set forth at the beginning of the DIA's compilation of systems of records notices apply to this system.

Policies and Practices for Storing, Retrieving, Accessing, Retaining, and Disposing of Records in the System:

Storage:

Electronic storage media.

Retrievability:

Unique Indentifying Number (UIN), name and Social Security Number (SSN).

Safeguards:

Records are stored in secure office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access is limited to persons responsible for servicing and authorized to use the system.

Retention and Disposal:

TEMPORARY. Delete upon incorporation into final communication, report or other action.

System Manager and Addresses:

Program Manager, Defense Source Registry, Defense Intelligence Agency, 200 MacDill Blvd., Washington, DC 20340-0001.

Notification Procedure:

Individuals seeking to determine whether information about themselves is contained in this system of records should address written inquiries to the DIA Freedom of Information Act Office (DAN-1A), Defense Intelligence Agency, 200 MacDill Blvd., Washington, DC 20340-5100.

Request should contain the individual's full name, current address and telephone number.

Record Access Procedures:

Individuals seeking access to information about themselves, contained in this system of records, should address written inquiries to the DIA Freedom of Information Act Office (DAN-1A), Defense Intelligence Agency, 200 MacDill Blvd., Washington, DC 20340-5100.

Requests should contain the requesting individual's full name, current address, and telephone number.

Contesting Record Procedures:

DIA's rules for accessing records, for contesting contents and for appealing initial agency determinations are published in DIA Instruction 5400.001, Defense Intelligence Agency Privacy Program, or may be obtained from the system manager.

Record Source Categories:

Individuals provide information and the Program Manager assigns the unique identifying number.

Exemptions Claimed for the System:

None.

[FR Doc. 2012-8834 Filed 4-11-12; 8:45 am]

BILLING CODE 5001-06-P